FEDERAL COMMUNICATIONS COMMISSION

[WC Docket No. 10-90, CC Docket No. 01-92; FCC 19-131; FRS 16472]

Connect America Fund; Developing a Unified Intercarrier Compensation Regime; Correction

AGENCY: Federal Communications Commission.

ACTION: Notice; correction.

SUMMARY: The Federal Communications Commission published a document in the Federal Register of January 30, 2020, clarifying its interpretation of the VoIP Symmetry Rule. The document contained incorrect dates.

FOR FURTHER INFORMATION CONTACT: Irina Asoskov, 202-418-2196.

SUPPLEMENTARY INFORMATION:

Correction

In the Federal Register of January 30, 2020, in FR Doc. 2020-01658, on page 5431, in the third column, correct the “Dates” caption to read:

DATES: The declaratory ruling was effective on December 17, 2019.

Dated: January 30, 2020.
Federal Communications Commission.
Marlene Dortch,
Secretary, Office of the Secretary.

[FR Doc. 2020-02584 Filed 2-7-20; 8:45 am]

BILLING CODE 6712-01-P